GENERAL SERVICES ADMINISTRATION

[Notice-MA-2021-07; Docket No. 2021-0002; Sequence No. 32]

Federal Management Regulation (FMR); Persons Who Are Nursing in Public Buildings

AGENCY: Office of Government-wide Policy (OGP), General Services Administration (GSA).

ACTION: Notice.

SUMMARY: GSA is issuing a bulletin for the FMR, titled “Persons who are Nursing in Public Buildings.” This bulletin supplements a previous bulletin on the subject, and clarifies space requirements and availability of lactation spaces in public buildings for both Federal employees and members of the public.

DATES: Applicable: December 28, 2021.

FOR FURTHER INFORMATION CONTACT: Chris Coneeney, Director, Real Property Policy Division, Office of Government-wide Policy, GSA at 202-501-2956, or email realpropertypolicy@gsa.gov. Please cite FMR Bulletin 2021-1.

SUPPLEMENTARY INFORMATION: This bulletin supplements FMR Bulletin 2011-B1, “Nursing Mothers in the Federal Workplace,” issued August 30, 2011. This bulletin clarifies the space requirements associated with the provision of lactation rooms in certain public buildings, reaffirms the availability of lactation space for Federal employees, as provided in section 4207 of subtitle C of title IV of the “Patient Protection and Affordable Care Act” (Pub. L. 111-148; March 23, 2010), and affirms the availability of lactation rooms for members of the public, as provided in the “Fairness for Breastfeeding Mothers Act of 2019” (Pub. L. 116-30; July 25, 2019). Lactation space in buildings leased by the Federal Government is not covered by the requirements of the “Fairness for Breastfeeding Mothers Act of 2019,” and is addressed in Federal Management Regulation (FMR) Bulletin 2011-B1 (August 30, 2011). Finally, this bulletin also reaffirms that a person may breastfeed their child on Federal Government property, if they are authorized to be present at that location (see 41 CFR 102-74.426).

In the event of a conflict between this bulletin and FMR Bulletin 2011-B1, the provisions of this bulletin will control. This bulletin will remain in effect until expressly superseded or cancelled.

For further information, please read FMR Bulletin 2021-1, Nursing in the Federal Workplace (Supplement), available at https://www.gsa.gov/policy-regulations/regulations/federal-management-regulation/federal-management-regulation-fmr-related-files#RealPropertyManagement.

Krystal J. Brumfield,
Associate Administrator, Office of Government-wide Policy.

[FR Doc. 2021-28130 Filed 12-27-21; 8:45 am]

BILLING CODE 6820-14-P